DEPARTMENT OF HEALTH AND HUMAN SERVICES

Centers for Disease Control and Prevention

[60Day-03-117]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer at (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Assessment of Educational Materials and Website—New—National Center for Infectious Diseases (NCID), Centers for Disease Control and Prevention (CDC).

The CDC's Division of Healthcare Quality Promotion (DHQP) develops and disseminates educational products and materials to assist healthcare personnel in preventing infections, antimicrobial resistance, and other adverse events to protect the public health. These educational materials/products include slides sets with discussion points, brochures, posters, video-conferences, and workbooks that may be distributed by mail, electronic mail, or the Internet.

Evaluation of public health activities is essential to fulfill CDC's operating principles for guiding public health practices. DHQP plans to assess (1) the usefulness and usability of its educational materials/products; (2) the usefulness and usability of its Web site; and (3) the impact of educational materials/products in the healthcare personnel knowledge, attitudes, and beliefs regarding preventing infections, antimicrobial resistance, and other adverse events. Results will be used to improve the quality and usability of DHQP educational materials and the accessibility of the DHQP web information.

Five to 25 questions pertinent to the evaluation of a specific educational material/product format or DHQP Web site will be selected from an OMB approved list of questions. Questions to assess the knowledge, attitudes and beliefs of healthcare personnel will be used before and after the training sessions with specific educational materials/products. Most responses will be obtained via the DHQP Web site without personal identifiers; however, some will be on printed forms. Questions can also be sent by electronic mail or mail. Responses will be voluntary and no personal identifiers will be collected.

These assessments will enable DHQP to develop educational materials/products to suit the needs of the constituents. Data will be collected using the Internet or printed forms. There will be no costs to the respondents.

Title | Number of respondents | Number of responses/respondent | Average burden/response (in hours) | Total burden (in hours)
Assessment of educational materials | 3,125 | 1 | 10/60 | 521
Assessment of website | 26,750 | 1 | 10/60 | 4,458
Assessment of knowledge, attitudes, and beliefs | 1,000 | 1 | 15/60 | 250
Total |  |  |  | 5,229

Dated: September 16, 2003
Nancy E. Cheal,
Acting Associate Director for Policy, Planning and Evaluation, Centers for Disease Control and Prevention.

[FR Doc. 03-24273 Filed 9-24-03; 8:45 am]

BILLING CODE 4163-18-P